DEPARTMENT OF THE INTERIOR

Fish and Wildlife Service

Availability of the Recovery Plan for the Northern Idaho Ground Squirrel (Spermophilus brunneus brunneus)

AGENCY: U.S. Fish and Wildlife Service, Interior.

ACTION: Notice of document availability.

SUMMARY: The U.S. Fish and Wildlife Service (“we”), announce the availability of the final Recovery Plan for the Northern Idaho Ground Squirrel (Spermophilus brunneus brunneus), a subspecies that is federally listed as threatened. This subspecies is known to exist only in Adams and Valley Counties of western Idaho and numbers about 500 individuals.

ADDRESSES: Copies of the recovery plan are available by written request addressed to the Field Supervisor, U.S. Fish and Wildlife Service, Snake River Fish and Wildlife Office, 1387 S. Vinnell Way, Boise, Idaho 83709 (telephone: 208-378-5243). An electronic version of this recovery plan is also available at: http://endangered.fws.gov/recovery/index.html#plans.

FOR FURTHER INFORMATION CONTACT: Rich Howard or Ray Vizgirdas at the above Boise address (telephone: 208-378-5243).

SUPPLEMENTARY INFORMATION:

Background

Recovery of endangered or threatened animals and plants is a primary goal of our endangered species program and the Endangered Species Act (Act) (16 U.S.C. 1531 et seq.). Recovery means improvement of the status of listed species to the point at which listing is no longer appropriate under the criteria set out in section 4(a)(1) of the Act. Recovery plans describe actions considered necessary for the conservation of the species, establish criteria for downlisting or delisting listed species, and estimate time and cost for implementing the measures needed for recovery.

The Act requires the development of recovery plans for listed species unless such a plan would not promote the conservation of a particular species. Section 4(f) of the Act requires that public notice and an opportunity for public review and comment be provided during recovery plan development. The draft recovery plan for the northern Idaho ground squirrel was available for public comment from July 15, 2002, through September 13, 2002 (67 FR 46440). Information presented during the public comment period has been considered in the preparation of this final recovery plan, and is summarized in an appendix to the recovery plan. We will forward substantive comments regarding recovery plan implementation to appropriate Federal or other entities so that they can take these comments into account during the course of implementing recovery actions.

The northern Idaho ground squirrel was listed as threatened on April 5, 2000 (65 FR 17779). This subspecies is known to exist only in Adams and Valley Counties of western-central Idaho. The entire range of this subspecies is about 32 by 108 kilometers (20 by 61 miles), and as of 2002, the subspecies existed at 29 of 42 known population sites (colonies). The northern Idaho ground squirrel is known to occur in shallow, dry, rocky meadows usually associated with deeper, well-drained soils and surrounded by ponderosa pine and Douglas-fir forests at elevations of about 915 to 1,650 meters (3,000 to 5,400 feet). The primary threat to this subspecies is habitat loss due to forest encroachment into former suitable meadow habitat. Forest encroachment results in habitat fragmentation, eliminates dispersal corridors, and confines the northern Idaho ground squirrel populations into small, isolated habitat islands that eventually can result in local extirpation.

The objective of this plan is to provide a framework for the recovery of the northern Idaho ground squirrel so that protection by the Act is no longer necessary. Recovery is contingent upon protecting and managing present northern Idaho ground squirrel habitat, modifying adjacent habitats to make them favorable for population increases, and to provide adequate corridors for exchange between populations.

The recovery objectives for the northern Idaho ground squirrel are: (1) At least 10 functioning metapopulations, each with an effective population size that is greater than 500 individuals for 5 consecutive years, throughout the probable historical distribution in Adams and Valley Counties; (2) the area occupied by each potential metapopulation is protected; (3) plans have been completed for the continued ecological management of habitats for all potential metapopulation sites; and (4) a post-delisting monitoring plan covering all potential metapopulation sites has been completed and is ready for implementation.

Authority

The authority for this action is section 4(f) of the Endangered Species Act, 16 U.S.C. 1533(f).

Dated: August 1, 2003.
Carolyn A. Bohan,
Regional Director, Region 1, U.S. Fish and Wildlife Service.

[FR Doc. 03-23536 Filed 9-15-03; 8:45 am]

BILLING CODE 4310-55-P